DEPARTMENT OF HOUSING AND URBAN DEVELOPMENT

[Docket No. FR-7092-N-27]

Privacy Act of 1974; System of Records

AGENCY: Office of Policy Development and Research, HUD.

ACTION: Notice of a new system of records.

SUMMARY: Pursuant to the provisions of the Privacy Act of 1974, as amended, the Department of Housing and Urban Development (HUD), Office of Policy Development & Research (PD&R), is issuing a public notice of its intent to establish a Privacy Act system of records titled, “HUD User.” HUD User is a publicly accessible website that provides free online access to a wide array of materials developed by PD&R, including housing reports, publications, datasets, databases, an e-magazine, listservs, e-books, Geographic Information System (GIS) Maps, and other valuable information related to housing and community development.

DATES: Comments will be accepted on or before June 14, 2024. This proposed action will be effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: Privacy Office; LaDonne White, 451 Seventh Street SW, Room 10139; Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD's Office of Policy Development and Research (PD&R) maintains the “HUDuser.GOV” system of records. HUD/PD&R has contracted with Sage Computing, an external vendor, to operate and maintain the website (www.huduser.gov). The website is used as a platform for PD&R to support PD&R and HUD sponsored events, HUD Secretary's Awards, mailing lists, datasets and tools, the HUD User webstore, HUD User forums, and technical assistance (TA) surveys. The website stores information on event registrants; HUD Secretary's Award nominations; electronic and hardcopy mailing list members; webstore accounts; dataset and tool accounts, including mapping tools; HUD User forum accounts; and TA survey accounts. These functionalities require interested members of the public to sign up with information that, depending on the functionality, may include their name, email, phone number, mailing address, organization, title, and/or employer identification number.

SYSTEM NAME AND NUMBER:

HUD User, HUD/PD&R-12.

SECURITY CLASSIFICATION:

Unclassified.

SYSTEM LOCATION:

Records are maintained at Sage Computing, 11491 Sunset Hills Road, Suite 350, Reston, VA 20190.

SYSTEM MANAGER(S):

Heidi Joseph, Director, Research Utilization Division, Office of Policy Development and Research (PD&R), 451 Seventh Street SW, Washington, DC 20410-0001, Email: heidi.j.joseph@hud.gov.

AUTHORITY FOR MAINTENANCE OF THE SYSTEM:

Section 3(b) of the Department of Housing and Urban Development Act of 1965, 42 U.S.C. 3532(b); Section 502(g) of the Housing and Urban Development Act of 1970, 12 U.S.C. 1701z-2(g).

PURPOSES OF THE SYSTEM:

HUD User is a publicly accessible website that provides free online access to an array of materials developed by PD&R, including housing reports, publications, datasets, databases, an e-magazine, listservs, e-books, GIS Maps, and other valuable information related to housing and community development. PD&R's primary mission is to support the Department's efforts to create cohesive, economically healthy communities, and HUD User is a critical mechanism by which PD&R shares housing and community development information with policymakers, researchers, practitioners, and the public.

CATEGORIES OF INDIVIDUALS COVERED BY THE SYSTEM:

Members of the General Public.

CATEGORIES OF RECORDS IN THE SYSTEM:

Full name, email address, phone number, mailing address, organization, title, and employer identification number.

SOURCE CATEGORIES:

Records are received from Individuals to access services available on www.huduser.gov.

ROUTINE USES OF RECORDS MAINTAINED IN THE SYSTEM, INCLUDING CATEGORIES OF USERS AND PURPOSES OF SUCH USES:

(1) To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

(2) To a congressional office from the record of an individual, in response to an inquiry from the congressional office made at the request of that individual.

(3) To contractors, grantees, experts, consultants and their agents, or others performing or working under a contract, service, grant, cooperative agreement, or other agreement with HUD, when necessary to accomplish an agency function related to a system of records. Disclosure requirements are limited to only those data elements considered relevant to accomplishing an agency function.

(4) To contractors, experts and consultants with whom HUD has a contract, service agreement, or other assignment of the Department, when necessary to utilize relevant data for the purpose of testing new technology and systems designed to enhance program operations and performance.

(5) To appropriate agencies, entities, and persons when: (a) HUD suspects or has confirmed that there has been a breach of the system of records; (b) HUD has determined that as a result of the suspected or confirmed breach there is a risk of harm to individuals, HUD (including its information systems, programs, and operations), the Federal Government, or national security; and (c) The disclosure made to such agencies, entities, and persons is reasonably necessary to assist in connection with HUD's efforts to respond to the suspected or confirmed breach or to prevent, minimize, or remedy such harm.

(6) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

(7) To appropriate Federal, State, local, tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

(8) (a) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(9) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

(10) To a consumer reporting agency, when trying to collect a claim owed on behalf of the Government, in accordance with 31 U.S.C. 3711(e).

POLICIES AND PRACTICES FOR STORAGE OF RECORDS:

Electronic.

POLICIES AND PRACTICES FOR RETRIEVAL OF RECORDS:

Name, address, telephone number, or email address associated with an individual.

POLICIES AND PRACTICES FOR RETENTION AND DISPOSAL OF RECORDS:

Temporary. Destroy 3 years after agreement, control measures, procedures, project, activity, or transaction is obsolete, completed, terminated or superseded.

ADMINISTRATIVE, TECHNICAL, AND PHYSICAL SAFEGUARDS:

All personal data will be maintained on a secure workstation or server protected by a firewall, and complex passwords that can only be accessed by the system administrators. Access rights to the data are granted to limited staff on a need-to-know basis, and the level of access provided to each person is based on the minimal level required that the individual needs to fulfill his role. All systems used to process or store data have Federal security controls applied to them; the data will be backed up regularly to safeguard against system failures or disasters; and unencrypted data will never be stored on a laptop or on a movable media such as CDs or USB flash drives.

RECORD ACCESS PROCEDURES:

Individuals requesting records of themselves should address written inquiries to the Department of Housing and Urban Development 451 7th Street SW Washington, DC 20410-0001. For verification, individuals should provide their full name, current address, and telephone number. In addition, the requester must provide either a notarized statement or an unsworn declaration made under 24 CFR 16.4.

CONTESTING RECORD PROCEDURES:

The HUD rule for accessing, contesting, and appealing agency determinations by the individual concerned are published in 24 CFR part 16.8 or may be obtained from the system manager.

NOTIFICATION PROCEDURES:

Individuals requesting notification of records of themselves should address written inquiries to the Department of Housing and Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

N/A.

LaDonne L. White,
Chief Privacy Officer, Office of Administration.

[FR Doc. 2024-10616 Filed 5-14-24; 8:45 am]

BILLING CODE 4210-67-P